DEPARTMENT OF ENERGY

Federal Energy Regulatory Commission

Combined Notice of Filings #1

Take notice that the Commission received the following electric rate filings:

Docket Numbers: ER20-692-001.

Applicants: California Independent System Operator Corp.

Description: Compliance filing: 2020-03-27 Compliance Filing to Update Effective Dates to be effective 2/29/2020.

Filed Date: 3/27/20.

Accession Number: 20200327-5256.

Comments Due: 5 p.m. ET 4/17/20.

Docket Numbers: ER20-716-001.

Applicants: New York Independent System Operator, Inc.

Description: Tariff Amendment: Deficiency Response LS Power Formula Rate to be effective 5/27/2020.

Filed Date: 3/26/20.

ccession Number: 20200326-5227.

Comments Due: 5 p.m. ET 4/16/20.

Docket Numbers: ER20-739-001.

Applicants: ISO New England Inc.

Description: Tariff Amendment: ISO-NE Response to Def Notice Re: Schedule 17-Recovery of CIP Costs to be effective 3/6/2020.

Filed Date: 3/27/20.

Accession Number: 20200327-5053.

Comments Due: 5 p.m. ET 4/17/20.

Docket Numbers: ER20-1051-001.

Applicants: American Transmission Systems, Incorporated, PJM Interconnection, L.L.C.

Description: Tariff Amendment: ATSI submits Amendment to ECSA SA No. 5569 in ER20-1051 to be effective 4/21/2020.

Filed Date: 3/27/20.

Accession Number: 20200327-5208.

Comments Due: 5 p.m. ET 4/17/20.

Docket Numbers: ER20-1400-000.

Applicants: New England Power Company.

Description: Notice of Cancellation of Original G-33 Circuit Support Agreement of New England Power Company.

Filed Date: 3/26/20.

Accession Number: 20200326-5254.

Comments Due: 5 p.m. ET 4/16/20.

Docket Numbers: ER20-1401-000.

Applicants: Public Service Company of Colorado.

Description: 2019 Post-Retirement Benefits Other than Pensions of Public Service Company of Colorado.

Filed Date: 3/26/20.

Accession Number: 20200326-5261.

Comments Due: 5 p.m. ET 4/16/20.

Docket Numbers: ER20-1402-000.

Applicants: Pacific Gas and Electric Company.

Description: Notice of Termination of Wholesale Distribution Service Agreement (no. 2) of Pacific Gas and Electric Company.

Filed Date: 3/27/20.

Accession Number: 20200327-5047.

Comments Due: 5 p.m. ET 4/17/20.

Docket Numbers: ER20-1403-000.

Applicants: American Transmission Systems, Incorporated, PJM Interconnection, L.L.C.

Description: § 205(d) Rate Filing: ATSI submits ECSA SA Nos. 5575 and 5576 to be effective 5/26/2020.

Filed Date: 3/27/20.

Accession Number: 20200327-5049.

Comments Due: 5 p.m. ET 4/17/20.

Docket Numbers: ER20-1404-000.

Applicants: Consolidated Edison Company of New York, New York Independent System Operator, Inc.

Description: § 205(d) Rate Filing: Interconnection Agreement (SA 2515) Con Edison and Orange & Rockland Utilities to be effective 3/30/2020.

Filed Date: 3/27/20.

Accession Number: 20200327-5067.

Comments Due: 5 p.m. ET 4/17/20.

Docket Numbers: ER20-1405-000.

Applicants: Massachusetts Electric Company.

Description: Notice of Cancellation of Interconnection Agreement (Rate Schedule No. 16) of Massachusetts Electric Company.

Filed Date: 3/27/20.

Accession Number: 20200327-5102.

Comments Due: 5 p.m. ET 4/17/20.

Docket Numbers: ER20-1406-000.

Applicants: Massachusetts Electric Company.

Description: Notice of Cancellation of Interconnection Agreement (Rate Schedule No. 62) of Massachusetts Electric Company.

Filed Date: 3/27/20.

Accession Number: 20200327-5108.

Comments Due: 5 p.m. ET 4/17/20.

Docket Numbers: ER20-1408-000.

Applicants: Niagara Mohawk Power Corporation.

Description: Notice of Cancellation of Interconnection Agreement (Rate Schedule No. 266) of Niagara Mohawk Power Corporation.

Filed Date: 3/27/20.

Accession Number: 20200327-5125.

Comments Due: 5 p.m. ET 4/17/20.

Docket Numbers: ER20-1409-000.

Applicants: Mid-Atlantic Interstate Transmission, LLC, PJM Interconnection, L.L.C.

Description: § 205(d) Rate Filing: MAIT submits Four ECSAs, Service Agreement Nos. 5514, 5573, 5574, and 5577 to be effective 5/26/2020.

Filed Date: 3/27/20.

Accession Number: 20200327-5143.

Comments Due: 5 p.m. ET 4/17/20.

Docket Numbers: ER20-1410-000.

Applicants: Midcontinent Independent System Operator, Inc.

Description: § 205(d) Rate Filing: 2020-03-27_Module D Tariff clean-up filing to be effective 3/1/2020.

Filed Date: 3/27/20.

Accession Number: 20200327-5162.

Comments Due: 5 p.m. ET 4/17/20.

Docket Numbers: ER20-1411-000.

Applicants: Duke Energy Florida, LLC.

Description: Tariff Cancellation: DEF-SECI Telogia Power—Notice of Cancellation of RS No. 189 to be effective 6/1/2020.

Filed Date: 3/27/20.

Accession Number: 20200327-5199.

Comments Due: 5 p.m. ET 4/17/20.

Docket Numbers: ER20-1413-000.

Applicants: Massachusetts Electric Company.

Description: § 205(d) Rate Filing: Filing of Small Generator Interconnection Agmt with Winchendon Hydroelectric to be effective 2/26/2020.

Filed Date: 3/27/20.

Accession Number: 20200327-5227.

Comments Due: 5 p.m. ET 4/17/20.

Docket Numbers: ER20-1414-000.

Applicants: PJM Interconnection, L.L.C.

Description: § 205(d) Rate Filing: Revisions to the Tariff and OA re Hourly Differentiated Segmented Ramp Rates to be effective 1/5/2021.

Filed Date: 3/27/20.

Accession Number: 20200327-5238.

Comments Due: 5 p.m. ET 4/17/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 27, 2020.
Nathaniel J. Davis, Sr.,
Deputy Secretary.

[FR Doc. 2020-06881 Filed 4-1-20; 8:45 am]

BILLING CODE 6717-01-P